NUCLEAR REGULATORY COMMISSION

[Docket No. 50-206]

In the Matter of Southern California Edison Company; San Onofre Nuclear Generating Station, Unit 1

Exemption

I

Southern California Edison Company (SCE or the licensee) is the holder of Facility Operating License No. DPR-13, which authorizes the licensee to possess the San Onofre Nuclear Generating Station, Unit 1 (SONGS1). The license states, in part, that the facility is subject to all the rules, regulations, and orders of the U.S. Nuclear Regulatory Commission (the Commission or NRC) now or hereafter in effect. The facility consists of a pressurized-water reactor located at the licensee's site in San Diego County, California. The facility is permanently shut down and defueled, and the licensee is no longer authorized to operate or place fuel in the reactor.

II

It is stated in Title 10 of the U.S. Code of Federal Regulations (10 CFR) section 73.55, “Requirements for physical protection of licensed activities in nuclear power reactors against radiological sabotage,” paragraph (a), that “The licensee shall establish and maintain an onsite physical protection system and security organization which will have as its objective to provide high assurance that activities involving special nuclear material are not inimical to the common defense and security and do not constitute an unreasonable risk to the public health and safety.”

By letter dated April 28, 2000, as supplemented by letter dated July 21, 2000, the licensee requested 12 exemptions from certain requirements of 10 CFR 73.55. These requirements are: (1) 10 CFR 73.55(a) the requirement that any emergency suspension of safeguards measures be approved by a licensed senior operator, (2) 10 CFR 73.55(c)(1)—the requirement that a protected area be maintained, (3) 10 CFR 73.55(c)(3)—the requirement that isolation zones be maintained in outdoor areas adjacent to the physical barrier at the perimeter of the protected area, (4) 10 CFR 73.55(c)(4)—the requirement that intrusion detection equipment for the perimeter of the protected area be utilized, (5) 10 CFR 73.55(c)(5)—the requirement that exterior illumination levels for the spent fuel building be maintained at the 0.2 footcandle level, (6) 10 CFR 73.55(c)(6)—the requirement that the control room be bullet resisting, (7) 10 CFR 73.55(c)(7)—the requirement that a vehicle barrier system be maintained around the spent fuel pool, (8) 10 CFR 73.55(d)(1)—the requirement that the last access control point be bullet resisting, (9) 10 CFR 73.55(e)(1)—the requirements that the central alarm station be located within the protected area, that there be a secondary alarm station, and that a secondary power supply system for the alarm annunciation equipment be within a vital area, (10) 10 CFR 73.55(e)(2)—the requirement for the alarm transmission lines to be tamper indicating and self-checking, (11) 10 CFR 73.55(h)(3)—the requirement to have five or more guards per shift immediately available to fulfill response commitments, and (12) 10 CFR 73.55(h)(6)—the requirement to remotely observe the isolation zone and physical barrier at the perimeter of the protected area. The proposed exemption is a preliminary step toward enabling SCE to revise the San Onofre Nuclear Generating Station Security Plan under 10 CFR 50.54(p) to develop and implement a defueled security plan to protect against radiological sabotage at SONGS1, a permanently shutdown reactor facility with fuel stored in the spent fuel storage pool.

III

Pursuant to 10 CFR 73.5, “Specific exemptions,” the Commission may, upon application of any interested person or upon its own initiative, grant such exemptions in this part as it determines are authorized by law and will not endanger life or property or the common defense and security, and are otherwise in the public interest. Pursuant to 10 CFR 73.55 the Commission is allowed to authorize a licensee to provide alternative measures for protection against radiological sabotage, provided the licensee demonstrates that the proposed measures meet the general performance requirements of the regulation and that the overall level of system performance provides protection against radiological sabotage equivalent to that provided by the regulation.

The underlying purpose of 10 CFR 73.55 is to provide reasonable assurance that adequate security measures can be taken in the event of an act of radiological sabotage. Because of its permanently shutdown and defueled condition, the number of target sets susceptible to sabotage attacks has been reduced. In addition, with more than 90 months of radiological and heat decay since SONGS1 was shut down in 1992, the radiological hazards associated with the remaining target sets, even if subject to sabotage attack, do not pose a significant threat to the public health and safety.

IV

For the foregoing reasons, the Commission has determined that the proposed alternative measures for protection against radiological sabotage meet the same assurance objective and the general performance requirements of 10 CFR 73.55 considering the permanently shutdown conditions at SONGS1 with all of the fuel in the spent fuel pool. In addition, the Commission has determined that the overall level of the proposed system's performance, as limited by this exemption, would not result in a reduction in the physical protection capabilities for the protection of special nuclear material or of SONGS1. Specifically, an exemption is being granted for 12 specific areas in which the licensee is authorized to modify the existing security plan commitments commensurate with the security threats associated with a permanently shutdown and defueled site for Unit 1 as follows:

(1) 10 CFR 73.55(a)—the requirement that any emergency suspension of safeguards measures be approved by a licensed senior operator in accordance with 10 CFR 50.54(x) and 50.54(y) for Unit 1 and that authority assigned to a certified fuel handler, (2) 10 CFR 73.55(c)(1)—the requirement that a protected area be maintained, since there are no vital areas, (3) 10 CFR 73.55(c)(3)—the requirement that isolation zones be maintained, since there are no vital areas, (4) 10 CFR 73.55(c)(4)—the requirement that an exterior intrusion detection system be located around the spent fuel building of the new security area, (5) 10 CFR 73.55(c)(5)—the requirement that the exterior illumination levels surrounding the spent fuel building be maintained at 0.2 footcandle measured horizontally at ground level, (6) 10 CFR 73.55(c)(6)—the requirement that the control room walls, doors, ceiling, floor, and any windows in the walls and in the doors be bullet-resisting, (7) 10 CFR 73.55(c)(7)—the requirement that a vehicle barrier system be maintained around the spent fuel building, (8) 10 CFR 73.55(d)(1)—the requirement that the individual responsible for the last access control function must be isolated within a bullet-resisting structure to assure the ability to respond or to summon assistance, (9) 10 CFR 73.55(e)(1)—the requirement that a continuously manned central alarm station be located within the protected area, the requirement for a continuously manned secondary alarm station, and the need for a secondary power supply system for the alarm annunciation equipment to be located within a vital area, (10) 10 CFR 73.55(e)(2)—the requirement that alarm transmission lines be tamper indicating and self-checking, (11) 10 CFR 73.55(h)(3)—the requirement that at least five guards be immediately available for responding to threats, theft, and radiological sabotage associated with the spent fuel pool, and (12) 10 CFR 73.55(h)(6)—the requirement that assessment capability of the protected area and isolation zones be provided.

Accordingly, the Commission has determined that, pursuant to 10 CFR 73.5, this exemption is authorized by law, will not endanger life or property or the common defense and security, and is otherwise in the public interest. Therefore, the Commission hereby grants SCE an exemption as described above from those requirements of 10 CFR 73.55 at SONGS1 in its permanently shutdown and defueled condition based on the safety evaluation enclosed with NRC letter to SCE dated August 29, 2000, which issues the exemption.

This exemption does not apply to SONGS Unit 2 or 3 or to the storage of any SONGS Unit 2 or 3 spent fuel in the SONGS Unit 1 spent fuel pool.

Pursuant to 10 CFR 51.32, the Commission has determined that this exemption will not have a significant effect on the quality of the human environment (65 FR 42402, dated July 10, 2000).

This exemption is effective upon issuance.

Dated: Dated at Rockville, Maryland, this 29th day of August 2000.
For the Nuclear Regulatory Commission.
John A. Zwolinski,
Director, Division of Licensing Project Management, Office of Nuclear Reactor Regulation.

[FR Doc. 00-22650 Filed 9-1-00; 8:45 am]

BILLING CODE 7590-01-P